DEPARTMENT OF AGRICULTURE

Submission for OMB Review; Comment Request

April 22, 2019.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by May 28, 2019 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: 7 CFR part 215—Special Milk Program for Children.

OMB Control Number: 0584-0005.

Summary of Collection: Section 3 of the Child Nutrition Act (CNA) of 1966 (Pub. L. 89-642, as amended; 42 U.S.C. 1772) authorizes the Special Milk Program (SMP) for Children. It provides for appropriation of such sums as may be necessary to enable the Secretary of Agriculture, under such rules and regulations as the Secretary may deem in the public interest, to encourage consumption of fluid milk by children in the United States in (1) nonprofit schools of high school grade and under, and (2) nonprofit nursery schools, child care centers, settlement houses, summer camps, and similar nonprofit institutions devoted to the care and training of children, which do not participate in a food service program authorized under the CNA or the National School Lunch Act.

Need and Use of the Information: The SMP is administered at the State, school food authority (SFA), and child care institution levels. The Food and Nutrition Service (FNS) collects information concerning the operation of the program including the submission of applications and agreements, submission and payment of claims, and the maintenance of records. Without this information FNS would not be able to reimburse schools and institutions in a timely manner to allow them to properly administer the program. In addition, data reporting would be delayed and the timely monitoring of program funding and program trends would be affected.

Description of Respondents: State, Local, and Tribal Government.

Number of Respondents: 3,499.

Frequency of Responses: Recordkeeping; Reporting: On Occasion, Monthly, and Annually.

Total Burden Hours: 13,325.

Ruth Brown,
Departmental Information Collection Clearance Officer.

[FR Doc. 2019-08344 Filed 4-24-19; 8:45 am]

BILLING CODE 3410-30-P